DEPARTMENT OF HEALTH AND HUMAN SERVICES

Centers for Medicare & Medicaid Services

[CMS-5055-N]

Medicare Program: Community-Based Care Transitions Program (CCTP) Meeting

AGENCY: Centers for Medicare & Medicaid Services (CMS), HHS.

ACTION: Notice of meeting.

SUMMARY: This notice announces a public conference hosted by CMS. This conference will provide a forum for community-based organizations, hospitals, Quality Improvement Organizations, Administration on Aging grantees, and other healthcare providers to receive useful guidance and ask questions about the upcoming Community-based Care Transitions Program. The meeting is open to the public, but attendance is limited to space and Webinar lines available.

DATES: Meeting Date: Friday, December 3, 2010, from 8 a.m. to 4 p.m., eastern standard time (e.s.t.).

Deadline for Webinar or Web-based Registration: Thursday, December 2, 2010, 8 a.m., e.s.t.

Deadline for Meeting Registration: Friday, November 19, 2010, 4 p.m., e.s.t.

Limited walk-in registration may be available the evening prior to the conference and the morning of the conference as space permits.

ADDRESSES: Meeting Location: Marriott Waterfront Hotel, 700 Aliceanna Street, Baltimore, MD 21202.

Registration: The meeting is open to the public, but attendance is limited to space and Webinar lines available. A link to the agenda and registration information will be posted on the CMS Care Transitions Web site at http://www.cms.gov/DemoProjectsEvalRpts/MD/itemdetail.asp?itemID=CMS1239313 as soon as it is available. Persons wishing to attend this meeting in person or via Webinar are encouraged to register in advance.

Special Accommodations: Individuals who require special accommodations should send an e-mail request to CareTransitions@cms.hhs.gov or via regular mail to the address specified in the FOR FURTHER INFORMATION CONTACT section of this notice. Presentation materials will be posted on the CMS Care Transitions Web site prior to the meeting.

FOR FURTHER INFORMATION CONTACT: Juliana Tiongson, Social Science Research Analyst, Centers for Medicare & Medicaid Services, 7500 Security Boulevard, Baltimore, MD 21244-1850, Mail Stop C4-14-15, telephone 410-786-0342 or e-mail Juliana.Tiongson@cms.hhs.gov.

SUPPLEMENTARY INFORMATION:

I. Background

Community-based organizations (CBOs) are defined in the statute as community-based organizations that provide care transition services across a continuum of care through arrangements with subsection (d) hospitals (as defined in section 1886(d)(1)(B) of the Social Security Act) and whose governing body includes sufficient representation of multiple health care stakeholders, including consumers. Experts in the field will present evidence-based care transition models, and lessons learned from participation in the Quality Improvement Organizations' (QIOs) 9th scope of work care transitions sub-national theme and related initiatives. Healthcare leaders will present broader, hospital-based interventions to reduce readmissions, as well as the positive financial implications of successfully reducing readmissions. This conference will also provide an overview of the Community-based Care Transitions Program (CCTP) and provide the opportunity for hospitals to connect with CBOs in their communities. Once a solicitation for the CCTP is published, proposals will be accepted on a rolling quarterly basis beginning in early 2011.

II. Meeting Agenda

The agenda for the December 3, 2010 meeting will include the following topic areas:

• Overview of the CCTP under section 3026 of the Affordable Care Act.

• The Business Case for Improving Care Transitions.

• Building Community Support and Root Cause Analysis.

• Overview of Care Transition Interventions.

• Implementation of Care Transition Interventions—Successes and Challenges.

Authority: Section 3026 of the Affordable Care Act

Dated: October 21, 2010.
Donald M. Berwick,
Administrator, Centers for Medicare & Medicaid Services.

[FR Doc. 2010-27789 Filed 10-29-10; 4:15 pm]

BILLING CODE 4120-01-P